DEPARTMENT OF AGRICULTURE

Forest Service

Chugach National Forest; Alaska; Revision of the Land Management Plan for the Chugach National Forest

AGENCY: Forest Service, USDA.

ACTION: Notice of opportunity to object to the revised Land Management Plan for the Chugach National Forest.

SUMMARY: The Forest Service is revising the Chugach National Forest's Land Management Plan (Forest Plan). The Forest Service has prepared a Final Environmental Impact Statement (FEIS) for its revised Forest Plan and a draft Record of Decision (ROD). This notice is to inform the public that the Chugach National Forest is initiating a 60-day period where individuals or entities with specific concerns about the Chugach National Forest's revised Forest Plan and the associated FEIS may file objections for Forest Service review prior to the approval of the revised Forest Plan. This is also an opportunity to object to the Regional Forester's list of species of conservation concern for the Chugach National Forest.

DATES: The Chugach National Forest's revised Forest Plan, FEIS, draft ROD, species of conservation concern list, and other supporting information will be available for review at: https://www.fs.usda.gov/project/?project=40816. The publication date of the legal notice in the Chugach National Forest's newspapers of record, Anchorage Daily News and Cordova Times (Alaska), initiates the 60-day objection period and is the exclusive means for calculating the time to file an objection (36 CFR 219.52(c)(5)). An electronic scan of the legal notice with the publication date will be posted at the link above.

ADDRESSES: Copies of the Chugach National Forest's revised Forest Plan, FEIS, draft ROD, and Regional Forester's list of species of conservation concern for the Chugach National Forest can be obtained online at: https://www.fs.usda.gov/project/?project=40816, or at the following office: Chugach National Forest Supervisor's Office, 161 E 1st Ave, Door 8, Anchorage, AK 99501, Phone: (907) 743-9500.

Objections must be submitted to the Objection Reviewing Officer by one of the following methods:

• Via regular mail, carrier, or hand delivery to the following address: USDA Forest Service, Attn: Objection Reviewing Officer, Alaska Region, 709 W 9th Street, Juneau, AK 99801, or P.O. Box 21628, Juneau, AK 99801. Note that the office hours for submitting a hand-delivered objection are 8:00 a.m. to 4:30 p.m., Alaska Time, Monday through Friday, excluding Federal holidays.

• Via fax to (907) 586-7840. Faxes must be addressed to “Objection Reviewing Officer.” The fax coversheet should specify the number of pages being submitted.

• Electronically to the Objection Reviewing Officer via the CARA objection web form: https://cara.ecosystem-management.org/Public//CommentInput?Project=40816. Electronic submissions must be submitted in a format (Word, PDF, or Rich Text) that is readable and searchable with optical character recognition software.

FOR FURTHER INFORMATION CONTACT: Chugach National Forest's Revision Team Leader, Sue Jennings at (907) 789-6238 or susan.jennings@usda.gov. Individuals who use telecommunication devices for the deaf (TDD) may call the Federal Information Relay Service (FIRS) at 1-800-877-8339 between 8:00 a.m. and 8:00 p.m., Eastern Time, Monday through Friday.

SUPPLEMENTARY INFORMATION: The decision to approve the revised Forest Plan for the Chugach National Forest and the Regional Forester's list of species of conservation concern for the Chugach National Forest will be subject to the objection process identified in 36 CFR part 219 Subpart B (219.50 to 219.62). An objection must include the following (36 CFR 219.54(c)):

(1) The objector's name and address along with a telephone number or email address if available—in cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the plan, plan amendment, or plan revision being objected to, and the name and title of the responsible official;

(5) A statement of the issues and/or parts of the plan, plan amendment, or plan revision to which the objection applies;

(6) A concise statement explaining the objection and suggesting how the draft plan decision may be improved. If the objector believes that the plan, plan amendment, or plan revision is inconsistent with law, regulation, or policy, an explanation should be included;

(7) A statement that demonstrates the link between the objector's prior substantive formal comments and the content of the objection, unless the objection concerns an issue that arose after the opportunities for formal comment; and

(8) All documents referenced in the objection (a bibliography is not sufficient), except the following need not be provided:

a. All or any part of a Federal law or regulation,

b. Forest Service Directive System documents and land management plans or other published Forest Service documents,

c. Documents referenced by the Forest Service in the planning documentation related to the proposal subject to objection, and

d. Formal comments previously provided to the Forest Service by the objector during the proposed plan, plan amendment, or plan revision comment period.

It is the responsibility of the objector to ensure that the reviewing officer receives the objection in a timely manner. The regulations prohibit extending the length of the objection filing period.

Responsible Official

The responsible official who will approve the ROD and the revised Forest Plan for the Chugach National Forest is Jeff E. Schramm, Forest Supervisor, Chugach National Forest, Chugach National Forest Supervisor's Office, 161 E. 1st Ave, Door 8, Anchorage, AK 99501, and Phone: (907) 743-9500. The responsible official for the list of species of conservation concern is David Schmid, Regional Forester, USDA Forest Service Alaska Region, 709 W. 9th Street, Juneau, AK 99801.

The Regional Forester is the reviewing officer for the revised Forest Plan since the Forest Supervisor is the responsible official (36 CFR 219.56(e)(2)). The decision to approve the species of conservation concern list will be subject to a separate objection process. The Chief of the Forest Service is the reviewing officer for species of conservation concern identification since the Regional Forester is the responsible official (36 CFR 219.56(e)(2)).

Dated: August 13. 2019.
Richard A. Cooksey,
Acting Associate Deputy Chief, National Forest System.

[FR Doc. 2019-18795 Filed 8-29-19; 8:45 am]

BILLING CODE 3411-15-P